DEPARTMENT OF COMMERCE

International Trade Administration

Environmental Technologies Trade Advisory Committee

AGENCY: International Trade Administration, U.S. Department of Commerce.

ACTION: Notice of an open meeting of a Federal Advisory Committee.

SUMMARY: The Environmental Technologies Trade Advisory Committee (ETTAC) will hold a virtual meeting on Friday, July 25, 2025. The meeting is open to the public with registration instructions provided below. This notice sets forth the schedule and proposed topics for the meeting.

DATES: The meeting is scheduled for Friday, July 25, 2025 from 12:00 p.m. to 1:00 p.m. Eastern Time (ET). The deadline for members of the public to register to participate, including requests to make comments during the meeting and for auxiliary aids, or to submit written comments for dissemination prior to the meeting, is 5:00 p.m. EDT on Friday, July 18, 2025. Members of the public must register by that date to participate.

ADDRESSES: The meeting will be held virtually. Members of the public who wish to participate should register through the registration portal: https://www.trade.gov/ettac. Requests for auxiliary aids or to make comments during the meeting, or submit written comments for dissemination prior to the meeting, should be submitted via email to Ms. Megan Hyndman, Office of Energy & Environmental Industries, International Trade Administration, at Megan.Hyndman@trade.gov.

FOR FURTHER INFORMATION CONTACT: Ms. Megan Hyndman, Office of Energy & Environmental Industries, International Trade Administration (Phone: 202-482-1297; email: Megan.Hyndman@trade.gov).

SUPPLEMENTARY INFORMATION: The ETTAC is mandated by Section 2313(c) of the Export Enhancement Act of 1988, as amended, 15 U.S.C. 4728(c), to advise the Environmental Trade Promotion Working Group of the Trade Promotion Coordinating Committee on the development and administration of programs to expand U.S. exports of environmental technologies, goods, services, and products. The ETTAC was most recently re-chartered through August 6, 2026.

On Friday, July 25, 2025 from 12:00 p.m. to 1:00 p.m. ET, the ETTAC will hold the fifth meeting of its current charter term. During the meeting, committee members will deliberate on proposed recommendation letters. An agenda will be made available one week prior to the meeting upon request to Megan Hyndman.

The meeting will be open to the public and time will be permitted for public comment before the close of the meeting. Members of the public seeking to attend the meeting are required to register by Friday, July 18, at 5:00 p.m. EDT, via the registration portal at https://www.trade.gov/ettac. This meeting is physically accessible to people with disabilities. Requests for sign language interpretation or other auxiliary aids should be directed to Megan.Hyndman@trade.gov or (202) 482-1297 no less than one week prior to the meeting. Requests received after this date will be accepted, but it may not be possible to accommodate them.

Written comments concerning ETTAC affairs are welcome any time before or after the meeting. To be considered during the meeting, written comments must be received by Friday, July 18, at 5:00 p.m. EDT to ensure transmission to the members before the meeting. Draft minutes will be available within 30 days of this meeting.

Dated: July 2, 2025.
Man K. Cho,
Deputy Director, Office of Energy and Environmental Industries.

[FR Doc. 2025-12683 Filed 7-7-25; 8:45 am]

BILLING CODE 3510-DR-P